DEPARTMENT OF THE INTERIOR

National Park Service

[NPS-WASO-(2220)-NPS0023067; PPWOPCADC0/PNA00RT14.GT0000]

Notice of Availability of Application by the Governor of Connecticut To Include Portions of the Housatonic River in the National Wild and Scenic Rivers System

AGENCY: National Park Service, Interior.

ACTION: Notice of availability.

SUMMARY: The Governor of Connecticut has requested that the Secretary of the Interior add a 41-mile segment of the Housatonic River to the National Wild and Scenic Rivers System. The National Park Service will conduct an evaluation of the Governor's request and make a recommendation to the Secretary about whether to include the proposed segments in the System after public and agency comment on the evaluation.

ADDRESSES: Materials submitted by the Governor are available online at: https://parkplanning.nps.gov/projectHome.cfm?projectID=70346.

FOR FURTHER INFORMATION CONTACT: Jamie Fosburgh, Northeast Region Rivers Program Leader, National Park Service, at jamie_fosburgh@nps.gov, or by telephone at 617-223-5191.

SUPPLEMENTARY INFORMATION: On November 16, 2016, Connecticut Governor Dannel P. Malloy requested the Secretary of the Interior to add a 41-mile segment of the Housatonic River from the Massachusetts—Connecticut border downstream to Boardman Bridge, New Milford, Connecticut, to the National Wild and Scenic Rivers System pursuant to Section 2(a)(ii) of the Wild and Scenic Rivers Act (Pub. L. 90-542; 16 U.S.C. 1273(a)(ii)). Application materials are available at: https://parkplanning.nps.gov/projectHome.cfm?projectID=70346.

Under the requirements of the Wild and Scenic Rivers Act, the Secretary of the Interior is directed to notify the Federal Energy Regulatory Commission upon receipt of an application and to publish such application in the Federal Register (16 U.S.C. 1273(a)(ii)). The purpose of this notice is to ensure that no actions are taken by departments or agencies of the United States, including the FERC, that might render the candidate river ineligible for designation during the one year period required for the Secretary's review of the Governor's application (16 U.S.C. 1278(b)), in this case until November 22, 2017.

Dated: September 12, 2017.
Jeffrey P. Reinbold,
Assistant Director, Partnerships and Civic Engagement.

[FR Doc. 2017-19719 Filed 9-18-17; 8:45 am]

BILLING CODE 4312-52-P